POSTAL SERVICE

Board of Governors; Sunshine Act Meeting

TIMES AND DATES: 11 a.m., Monday, September 8, 2003; and 8:30 a.m., Tuesday, September 9, 2003.

PLACE: Washington, DC, at U.S. Postal Service Headquarters, 475 L'Enfant Plaza, SW., in the Benjamin Franklin Room.

STATUS: September 8-11 a.m. (Closed); September 9-8:30 a.m. (Open).

MATTERS TO BE CONSIDERED:

Monday, September 8-11 a.m. (Closed)

1. Office of Inspector General Fiscal Year 2004 Budget.

2. Financial Update.

3. Fiscal Year 2004 Integrated Financial Plan.

4. Strategic Planning.

5. Personnel Matters and Compensation Issues.

Tuesday, September 9-8:30 a.m. (Open)

1. Minutes of Previous Meetings, August 4-5, August 7, and August 11, 2003.

2. Remarks of the Postmaster General and CEO.

3. Postal Rate Commission Fiscal Year 2004 Budget. (Chairman David Fineman).

4. Fiscal Year 2004 Annual Performance Plan/Five-Year Strategic Plan—Government Performance and Results Act. (Chairman David Fineman).

5. Fiscal Year 2004 Operating Plan. (Mr. Dick Strasser).

6. Fiscal Year 2004 Capital Investment Plan. (Mr. Dick Strasser).

7. Fiscal Year 2004 Financing Plan. (Mr. Dick Strasser).

8. Preliminary Fiscal Year 2005 Appropriation Request. (Mr. Dick Strasser).

9. Capital Investment.

a. Advanced Facer Canceller System (AFCS) Improvements. (Mr. Tom Day).

10. Tentative Agenda for the October 2-3, 2003, meeting in Wilmington, Delaware.

FOR FURTHER INFORMATION CONTACT: William T. Johnstone, Secretary of the Board, U.S. Postal Service, 475 L'Enfant Plaza, SW., Washington, DC 20260-1000. Telephone (202) 268-4800.

William T. Johnstone,
Secretary.

[FR Doc. 03-22340 Filed 8-27-03; 2:09 am]

BILLING CODE 7710-12-M